ENVIRONMENTAL PROTECTION AGENCY

[FRL-8285-6]

EPA Science Advisory Board (SAB) Staff Office Request for Nominations for Clean Air Scientific Advisory Committee (CASAC) Particular Matter (PM Review Panel)

AGENCY: Environmental Protection Agency (EPA).

ACTION: Notice.

SUMMARY: The U.S. Environmental Protection Agency (EPA or Agency) Science Advisory Board (SAB) Staff Office is announcing the formation of the Clean Air Scientific Advisory Committee (CASAC) review panel for Particulate Matter (PM). The SAB Staff Office is soliciting public nominations for this Panel.

DATES: New nominations should be submitted by March 29, 2007.

FOR FURTHER INFORMATION CONTACT: Any member of the public wishing further information regarding this Request for Nominations may contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web site at: http://www.epa.gov/sab.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App. Section 109(d)(1) of the Clean Air Act (CAA) requires that EPA carry out a periodic review and revision, as appropriate, of the air quality criteria and the NAAQS for the six “criteria” air pollutants, including PM. This Federal Register notice solicitation is seeking nominations for additional, subject-matter experts to augment the chartered CASAC. This CASAC Panel will review EPA's technical and policy assessments that form the basis for updating the NAAQS for PM. The CASAC PM Review Panel will comply with the provisions of FACA and all appropriate SAB Staff Office procedural policies.

Nominator's Assessment of Expertise. The SAB Staff Office requests nominees for the CASAC PM Review Panel who are nationally-recognized experts in one or more of the following disciplines:

(a) Atmospheric Science. Expertise in evaluating the physical/chemical properties of particulate matter including transport of PM on urban to global scales, transformation of primary particles in the atmosphere to secondary particles, and movement of PM between media through deposition and other such mechanisms. Expertise in evaluating natural and anthropogenic sources and emissions of PM and resulting ambient levels, pertinent monitoring or measurement methods for PM, and spatial and temporal trends in PM atmospheric concentrations.

(b) Human Exposure and Risk Assessment/Modeling. Expertise in measuring general population exposure to PM and/or in modeling exposure to PM emitted from ambient and indoor sources. Expertise in human health risk analysis modeling for PM related to respiratory, cardiovascular, and other non-cancer health effects as well as cancer. Expertise in characterizing uncertainty in exposure and risk analyses.

(c) Dosimetry. Expertise in evaluating the dosimetry of animal and human subjects, including identifying factors associated with differential patterns of inhalation and/or deposition/uptake in various respiratory tract regions that may contribute to differential susceptibility of sensitive subpopulations and animal-to-human dosimetry extrapolations.

(d) Toxicology. Expertise in evaluating and interpreting experimental laboratory animal studies, including animal models simulating sensitive subpopulations (e.g., children, older adults, individuals with preexisting respiratory or cardiac disease), and in vitro studies of the effects of PM on pulmonary and extrapulmonary (e.g., cardiovascular, immunological) endpoints and cancer.

(e) Controlled Human Exposure. Expertise in evaluating and interpreting controlled human exposure studies of the effects of PM on the general population and sensitive subpopulations (e.g., children, older adults, individuals with preexisting respiratory or cardiac disease). Experts would include physicians with experience in the clinical treatment of cardiopulmonary diseases, including asthma, chronic obstructive pulmonary disease (COPD), and diabetes.

(f) Epidemiology and Biostatistics. Expertise in evaluating epidemiological evidence of the effects of exposures to ambient PM and other major air pollutants (e.g., ozone, SO2, NO2, carbon monoxide) on the general population and sensitive subpopulations (e.g., children, older adults, individuals with preexisting respiratory or cardiac disease). Expertise in evaluating a broad range of health endpoints, including mortality and morbidity effects (e.g., respiratory symptoms, lung function decrements, asthma medication use, physiological changes or biomarkers for cardiac changes, cardiopulmonary-related emergency department visits, cardiopulmonary-related hospital admissions, cancer). Expertise in using biostatistical models to interpret epidemiological evidence.

(g) Effects on Visibility Impairment. Expertise in evaluating and interpreting studies of the effects of PM on local visibility impairment as well as regional haze. Expertise would include evaluating visibility trends and conditions in Class I, urban, and non-urban areas, studies of economic value of improving visual air quality, and approaches to assessing public perceptions of visibility impairment and judgments about the acceptability of varying degrees of visibility impairment.

(h) Ecological Effects. Expertise in evaluating the effects of exposure to PM on agricultural crops and natural ecosystems and their components, both flora and fauna, ranging from biochemical/sub-cellular effects on organisms to increasingly more complex levels of ecosystem organization. Appropriate expertise disciplines include: Aquatic chemistry; aquatic ecology/biology; limnology; terrestrial ecology; forest ecology; grassland ecology; rangeland ecology; terrestrial/aquatic biogeochemistry; terrestrial/aquatic nutrient cycling; and terrestrial/aquatic wildlife biology and soil chemistry.

(i) Other Welfare Effects. Expertise in evaluating the effects of PM on other public welfare effects, including damage to materials, and also the atmospheric interactions of PM as related to global climate conditions.

(j) Ecosystem Exposure and Risk Assessment/Modeling. Expertise in deposition modeling across a range of scales from local watershed to landscape to continental; static and dynamic ecosystem response models; integrated assessment models; identification of bioindicators useful for tracking ecosystem change; and methods and approaches for estimating damage to ecosystems.

(k) Resource Valuation. Expertise in ecological resource and other welfare effects valuation and/or economic benefits assessment approaches and models.

Process and Deadline for Submitting Nominations: Any interested person or organization may nominate qualified individuals to add expertise to the CASAC PM Review Panel in the areas of expertise described above. Nominations should be submitted in electronic format through the SAB Web site at the following URL: http://www.epa.gov/sab; or directly via the Form for Nominating Individuals to Panels of the EPA Science Advisory Board link found at URL: http://www.epa.gov/sab/panels/paneltopics.html. Please follow the instructions for submitting nominations carefully. To be considered, nominations should include all of the information required on the associated forms. Anyone unable to submit nominations using the electronic form and who has any questions concerning the nomination process may contact Mr. Fred Butterfield, DFO, as indicated above in this notice. Nominations should be submitted in time to arrive no later than March 29, 2007.

For nominees to be considered, please include: Contact information; a curriculum vitae; a biosketch of no more than two paragraphs (containing information on the nominee's current position, educational background, areas of expertise and research activities, service on other advisory committees and professional societies; the candidate's special expertise related to the panel being formed; and sources of recent grant and/or contract support).

The EPA SAB Staff Office will acknowledge receipt of nominations. The names and biosketchs of qualified nominees identified by respondents to the Federal Register notice and additional experts identified by the SAB Staff will be posted on the SAB Web site at: http://www.epa.gov/sab. Public comments on this “Short List” of candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. In establishing the final CASAC PM Review Panel, the SAB Staff Office will consider public comments on the “Short List” of candidates, information provided by the candidates themselves, and background information independently gathered by the SAB Staff Office. Specific criteria to be used for Panel membership include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of, and balance among, scientific expertise, viewpoints, etc.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at: http://www.epa.gov/sab/pdf/ec02010.pdf.

Dated: March 2, 2007.
Anthony F. Maciorowski,
Deputy Director, EPA Science Advisory Board Staff Office.

[FR Doc. E7-4168 Filed 3-7-07; 8:45 am]

BILLING CODE 6560-50-P